DEPARTMENT OF LABOR

Agency Information Collection Activities; Submission for OMB Review; Comment Request, Cascades Job Corps College and Career Academy Pilot Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. A copy of the proposed Information Collection Request (ICR) can be obtained by contacting the office listed in the addressee section of this notice.

DATES: Written comments must be submitted to the office listed in the addressee's section below on or before July 30, 2018.

ADDRESSES: You may submit comments by either one of the following methods:

Email: ChiefEvaluationOffice@dol.gov; Mail or Courier: Jessica Lohmann, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Contact Jessica Lohmann by email at ChiefEvaluationOffice@dol.gov.

SUPPLEMENTARY INFORMATION:

I. Background: The Chief Evaluation Office (CEO), U.S. Department of Labor (DOL), is proposing a data collection activity as part of the Cascades Job Corps College and Career Academy Pilot Evaluation. The goal of the evaluation is to determine the effectiveness of the Pilot program in improving employment and educational outcomes for youth ages 21 and under. The impact study will randomly assign individuals to receive program services or to a group that cannot access these services but can participate in other similar programs. The impact study will compare the employment and educational outcomes of the groups to determine the effectiveness of the Pilot program. The evaluation also includes an implementation study that will describe the services participants receive through the Pilot program as well as provide operational lessons.

Data collection efforts previously approved for the Cascades Job Corps College and Career Academy Pilot Evaluation under OMB Control Number 1290-0012 include: A baseline survey of sample members in the evaluation, discussion guides for the implementation study, and tracking contacts to sample members in the evaluation to request address updates. These collection activities will continue under the previously approved request.

This Federal Register Notice provides the opportunity to comment on a proposed new information collection activity for the Cascades Job Corps College and Career Academy Pilot Evaluation: A follow-up survey of sample members in the Cascades Job Corps College and Career Academy Pilot Evaluation conducted approximately eighteen months after random assignment. The purposes of the study are to understand and document the impacts of the Pilot on students': (1) Training and related service receipt; (2) educational attainment, including receipt of credentials; (3) employment status; (4) socio-emotional skills; (5) public benefits receipt; and (6) opinions on the education and training services received.

II. Desired Focus of Comments: DOL is soliciting comments concerning the above data collection for the Cascades Job Corps College and Career Academy Pilot Evaluation. DOL is particularly interested in comments that do the following:

• Evaluate whether the proposed collection of information is necessary for the proper performance of the functions of the agency related to employer services, including whether the information will have practical utility;

• Evaluate the accuracy of the agency's estimate of the burden of the ICR to survey and fieldwork respondents, including the validity of the study approach and assumptions used;

• Enhance the quality, utility, and clarity of the information to be collected; and

• Minimize the burden of the information collection on respondents, including the use of appropriate automated, electronic, mechanical, or other technological collection techniques or other forms of information technology (e.g., permitting electronic submission of responses).

III. Current Actions: At this time, DOL is requesting clearance for the follow-up survey of sample members in the Cascades Job Corps College and Career Academy Pilot Evaluation.

Type of Review: New information collection request.

Title: Cascades Job Corps College and Career Academy Pilot Evaluation.

OMB Number: OMB Control Number 1290-0NEW.

Affected Public: Participants applying for the Cascades Job Corps College and Career Academy.

Estimated Burden Hours
Type of instrument | Total number of respondents | Annual number of respondents | Number of responses per respondent | Average burden hours per response | Total burden hours | Annual burden hours
Follow-up survey | ᵃ 800 | ᵇ 267 | 1 | .58 | 464 | 155
Total |  | 267 |  |  |  | 155
ᵃ Assumes a sample of 1,000 with an 80 percent response rate.
ᵇ Data collection will take place over 36 months.

Dated: May 24, 2018.
Molly Irwin,
Chief Evaluation Officer, U.S. Department of Labor.

[FR Doc. 2018-11718 Filed 5-30-18; 8:45 am]

BILLING CODE 4510-HX-P